SMITHSONIAN INSTITUTION

Intent To Prepare an Environmental Impact Statement for Proposed Construction of the Smithsonian National Museum of African American History and Culture

AGENCY: Smithsonian Institution (SI), National Capital Planning Commission (NCPC).

ACTION: Notice.

SUMMARY: Pursuant to section 102(2)(c) of the National Environmental Policy Act (NEPA) of 1969, as implemented by the Council on Environmental Quality (40 CFR parts 1500-1509), and in accordance with the Environmental Policies and Procedures implemented by the National Capital Planning Commission, the SI and NCPC announce their intent, as Joint-Lead Agencies, to prepare an environmental impact statement (EIS) to assess the potential effects of constructing and operating the National Museum of African American History and Culture (NMAAHC) within the Smithsonian Institution. The Museum will be located on a 217,800 square foot (SF) or 5 acre site bounded by Constitution Avenue, Madison Drive, 14th and 15th Streets, NW. on the National Mall in Washington, DC. A public meeting will be conducted to ensure that all significant issues related to construction and operation of the proposed museum are identified.

SUPPLEMENTARY INFORMATION: Public Law 108-184, the National Museum of African American History and Culture Act enacted by the Congress of the United States on December 16, 2003, (the Act) established a museum within the Smithsonian Institution to be known as the National Museum of African American History and Culture. It recognizes that such a museum “would be dedicated to the collection, preservation, research, and exhibition of African American historical and cultural materials reflecting the breadth and depth of the experience of individuals of African descent living in the United States.”

Section 8 of the Act, “Building for the National Museum of African American History and Culture,” directs the Smithsonian Board of Regents to select one site among four in Washington, DC for the construction of the museum. The sites identified are the Arts and Industries Building; the area bounded by Constitution Avenue, Madison Drive, 14th, and 15th Streets, NW., now commonly known as the Monument site; the Liberty Loan site located on 14th Street, SW. at the foot of the 14th Street Bridge; and the Banneker Overlook site, located on 10th Street, SW. at the foot of the L'Enfant Plaza Promenade. After undertaking a site evaluation study that analyzed site-specific characteristics and evaluated minimum and maximum build scenarios at each site, as well as a process of consultation with parties specified in the legislation, the Board of Regents of the Smithsonian Institution voted to select the Monument site. The decision was announced on January 30, 2006.

The identity and description of the action to be addressed in this EIS derive primarily from the language of Public Law 180-184, its legislative history, and the studies by the “National Museum of African American History and Culture Plan for Action Presidential Commission” that led to its enactment. With regard to the scope of the action, much information on the potential size, configuration, and siting of a museum facility at the Monument site was presented in the Phase II Site Evaluation Study of November 15, 2005, for the use of the Smithsonian Regents in their selection of the site. Graphics included in this study showed the potential in terms of massing and placement of a museum facility on the candidate sites. Although they were conceptual and only intended for site selection purposes, they are a point of departure for this study and the range of alternatives evaluated in this EIS.

The potential range of alternatives that will be evaluated in the EIS includes the no action or no build alternative and a range of build alternatives derived from the site evaluation study that will include a minimum build-out at approximately 350,000 gross square feet (GSF), a middle range build-out at approximately 415,000 GSF, and a maximum build-out that would not exceed approximately 804,000 GSF. Each alternative description will identify the number of levels above and below ground, general massing, and site setbacks. The Presidential Commission identified 350,000 GSF as the preliminary program space requirements for the museum. Thus, it was used as the baseline or “point of departure” for the maximum and minimum build scenarios developed in the site evaluation study. As part of the scoping process, other alternatives may be identified that merit further investigation.

Topics for environmental analysis will be further defined during scoping activities with the public and agencies but will include topics such as historic resources, archeology, visual resources, transportation, public utilities, land use, social and economic issues, and physical and biological resources such as air, geology, and groundwater.

Public Scoping Meeting and Comments: The Smithsonian Institution and the National Capital Planning Commission will solicit public comments for consideration and possible incorporation in the Draft EIS through public scoping, including a scoping meeting, on the proposed museum building at the Monument site. Notice of the public meeting will be publicized in local newspapers and through other sources. To ensure that all issues related to this action are addressed and all significant issues are identified early in the process, comments are invited in writing and orally from all interested and/or potentially affected parties. These comments may be provided at the public meeting or provided in writing to Jill Cavanaugh at the Louis Berger Group, Inc., 2300 N Street, NW., #800, Washington, DC 20037 (until December 15, 2006) and to 2445 M Street, NW., 4th Floor, Washington, DC 20037-1445 (after December 15, 2006). Comments will also be collected at http://www.nmaahc-eis.com. All public comments must be postmarked or received on the Web site by January 5, 2007.

FOR FURTHER INFORMATION CONTACT: Jane Passman, Senior Facilities Planner, Smithsonian Institution, Office of Facilities Engineering and Operations, PO Box 37012, 750 9th Street, NW., Suite 5200 MRC 908, Washington, DC 20013-7012; Phone: 202-275-0234; Fax: 202-275-0889.

John E. Huerta,
General Counsel, Smithsonian Institution.

[FR Doc. E6-19496 Filed 11-17-06; 8:45 am]

BILLING CODE 8030-03-P